FEDERAL MARITIME COMMISSION

[Docket No. 25-16]

IWG International Wood Group of SC and Honest Trading International LLC, Complainants v. DB Schenker USA, Inc., Respondent; Notice of Filing of Complaint and Assignment

Notice is given that a complaint has been filed with the Federal Maritime Commission (the “Commission”) by IWG International Wood Group of SC and Honest Trading International LLC (the “Complainants”) against DB Schenker USA, Inc. (the “Respondent”). Complainants state that the Commission has jurisdiction over the complaint pursuant to the Shipping Act of 1984, as amended, 46 U.S.C. 41102(c), 41301-41309, and jurisdiction over Respondent as a regulated non-vessel-operating common carrier engaging in international ocean transport.

Complainant IWG International Wood Group of SC is a limited liability company organized and existing under the laws of the state of South Carolina with its principal place of business located in South Carolina.

Complainant Honest Trading International LLC is a limited liability company existing and organized under the laws of the state of Georgia with its principal place of business in Georgia.

Complainants identify Respondent as an ocean transportation intermediary and non-vessel-operating common carrier with a business address in Chesapeake, Virginia.

Complainants allege that Respondent violated 46 U.S.C. 41102(c) and 41104(a)(2). Complainants allege these violations arose from Respondent's mishandling of five shipments contracted by Complainants, across which Respondent misrouted letters of credit, untimely issued draft and final versions of bills of lading, failed to remedy financial discrepancies between the parties, and other acts or omissions by Respondent.

An answer to the complaint must be filed with the Commission within 25 days after the date of service.

The full text of the complaint can be found in the Commission's electronic Reading Room at https://www2.fmc.gov/readingroom/proceeding/25-16/. This proceeding has been assigned to the Office of Administrative Law Judges. The initial decision of the presiding judge shall be issued by August 7, 2026, and the final decision of the Commission shall be issued by February 22, 2027.

(Authority: 46 U.S.C. 41301; 46 CFR 502.61(c).)

Served: August 7, 2025.
David Eng,
Secretary.

[FR Doc. 2025-15282 Filed 8-11-25; 8:45 am]

BILLING CODE 6730-02-P